DEPARTMENT OF THE INTERIOR

Bureau of Land Management

[LLWY-957000-16-L13100000-PP0000]

Filing of Plats of Survey, Nebraska

AGENCY: Bureau of Land Management, Interior.

ACTION: Notice.

SUMMARY: The Bureau of Land Management (BLM) is scheduled to file the plats of survey of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: These surveys were executed at the request of the Bureau of Indian Affairs and the Bureau of Land Management and are necessary for the management of these lands. The lands referenced are:

The plat and field notes representing the corrective dependent resurvey of a portion of the First Guide Meridian East, through T. 24 N., between Rs. 8 and 9 E., the dependent resurvey of portions of the south boundary of the Omaha Indian Reservation, the subdivisional lines and subdivision of section lines, and the survey of the subdivision of certain sections, Township 24 North, Range 8 East, of the Sixth Principal Meridian, Nebraska, Group No. 179, was accepted April 19, 2016.

The plat representing the entire record of the corrective dependent resurvey of a portion of the subdivision of section 19, Township 24 North, Range 9 East, Sixth Principal Meridian, Nebraska, Group No. 182, was accepted April 19, 2016.

Copies of the preceding described plats and field notes are available to the public at a cost of $1.10 per page.

Dated: April 22, 2016.
John P. Lee,
Chief Cadastral Surveyor, Division of Support Services.

[FR Doc. 2016-09957 Filed 4-27-16; 8:45 am]

BILLING CODE 4310-22-P